DEPARTMENT OF THE INTERIOR

National Park Service

[NPS-WASO-NAGPRA-13090; PPWOCRADN0-PCU00RP14.R50000]

Notice of Intent To Repatriate Cultural Items: University of Oregon Museum of Natural and Cultural History, Eugene, OR

AGENCY: National Park Service, Interior.

ACTION: Notice.

SUMMARY: The University of Oregon Museum of Natural and Cultural History, in consultation with the appropriate Indian tribes or Native Hawaiian organizations, has determined that the cultural items listed in this notice meet the definition of unassociated funerary objects. Lineal descendants or representatives of any Indian tribe or Native Hawaiian organization not identified in this notice that wish to claim these cultural items should submit a written request to the University of Oregon Museum of Natural and Cultural History. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the University of Oregon Museum of Natural and Cultural History, at the address in this notice by July 17, 2013.

ADDRESSES: Dr. Pamela Endzweig, Director of Collections, University of Oregon Museum of Natural and Cultural History, 1224 University of Oregon, Eugene, OR 97403-1224, telephone (541) 346-5120.

SUPPLEMENTARY INFORMATION: Notice is here given in accordance with the Native American Graves Protection and Repatriation Act (NAGPRA), 25 U.S.C. 3005, of the intent to repatriate cultural items under the control of the University of Oregon Museum of Natural and Cultural History, Eugene, OR, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

In 1938, seven cultural items were removed from Courthouse Rock, near Antelope, in Wasco County, OR, during legally authorized excavations by archeologists from the University of Oregon. The cultural items were found in direct association with a burial pit exhibiting signs of cremation. Two burial pits were excavated, but human remains were only removed from Pit #2. The human remains and associated funerary objects from Pit #2 are the subject of a separate Notice of Inventory Completion published in the Federal Register. The seven unassociated funerary objects from Pit #1 are two points, four scrapers, and one yellow pigment sample.

Based on archeological context, the cultural items described above are determined to be Native American. Based on provenience, the cultural items are reasonably believed to be affiliated with the Tenino people. Historical documents, ethnographic sources, and oral history indicate that Tenino people have occupied north-central Oregon since pre-contact times. The Tenino people are one of the tribes that compose the Confederated Tribes of the Warm Springs Reservation of Oregon.

Determinations Made by the University of Oregon Museum of Natural and Cultural History

Officials of the University of Oregon Museum of Natural and Cultural History have determined that:

• Pursuant to 25 U.S.C. 3001(3)(B), the seven cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Confederated Tribes of the Warm Springs Reservation of Oregon.

Additional Requestors and Disposition

Lineal descendants or representatives of any Indian tribe or Native Hawaiian organization not identified in this notice that wish to claim these cultural items should submit a written request with information in support of the claim to Dr. Pamela Endzweig, Director of Collections, University of Oregon Museum of Natural and Cultural History, 1224 University of Oregon, Eugene, OR 97403-1224, telephone (541) 346-5120, by July 17, 2013. After that date, if no additional claimants have come forward, transfer of control of the unassociated funerary objects to the Confederated Tribes of the Warm Springs Reservation of Oregon may proceed.

The University of Oregon Museum of Natural and Cultural History is responsible for notifying the Confederated Tribes of the Warm Springs Reservation of Oregon that this notice has been published.

Dated: May 10, 2013.
Sherry Hutt,
Manager, National NAGPRA Program.

[FR Doc. 2013-14343 Filed 6-14-13; 8:45 am]

BILLING CODE 4312-50-P